DEPARTMENT OF HOUSING AND URBAN DEVELOPMENT

[Docket No. FR-4743-N-07]

Notice of Planned Closing of Memphis, TN Post-of-Duty Station

AGENCY: Office of Inspector General, (HUD).

ACTION: Notice of planned closing of the Memphis, Tennessee post-of-duty station.

SUMMARY: This notice advises the public that HUD Office of Inspector General (OIG) plans to close its Memphis, Tennessee post-of-duty station, and also provides a cost-benefit analysis of the impact of this closure.

FOR FURTHER INFORMATION CONTACT: Bryan Saddler, Counsel to the Inspector General, Room 8260, Department of Housing and Urban Development, 451 Seventh Street, SW., Washington, DC 20410-4500, 202-708-1613 (this is not a toll free number). A telecommunications device for hearing- and speech—impaired persons (TTY) is available at 1-800-877-8339 (Federal Information Relay Services).

SUPPLEMENTARY INFORMATION: The Memphis, Tennessee post-of-duty station was opened in the middle 1980s to address fraud throughout the State of Tennessee. Later, the Nashville, Tennessee office—which is centrally located, and, thus, better situated geographically to address fraud statewide—was opened. In September 2004, one of the two agents assigned to Memphis was promoted and transferred to Texas. HUD/OIG has determined that greater efficiency and cost-savings can be achieved by now consolidating staff and resources in the centrally located Nashville office.

Section 7(p) of the Department of Housing and Urban Development Act (42 U.S.C. 3535(p)) provides that a plan for field reorganization, which may involve the closing of any field or regional office, of the Department of Housing and Urban Development may not take effect until 90 days after a cost-benefit analysis of the effect of the plan on the office in question is published in the Federal Register. The required cost-benefit analysis should include: (1) An estimate of cost savings anticipated; (2) an estimate of the additional cost which will result from the reorganization; (3) a discussion of the impact on the local economy; and (4) an estimate of the effect of the reorganization on the availability, accessibility, and quality of services provided for recipients of those services.

Legislative history pertaining to section 7(p) indicates that not all reorganizations are subject to the requirements of section 7(p). Congress stated that “[t]his amendment is not intended to [apply] to or restrict the internal operations or organization of the Department (such as the establishment of new or combination of existing organization units within a field office, the duty stationing of employees in various locations to provide on-site service, or the establishment or closing, based on workload, of small, informal offices such as valuation stations).” (See House Conference Report No. 95-1792, October 14, 1978 at 58.) Through this notice, HUD/OIG advises the public of the closing of the Memphis, Tennessee duty station and provides the cost benefit analysis of the impact of the closure.

Impact Of The Closure Of The Memphis, Tennessee, Post-Of-Duty Station: HUD/OIG considered the costs and benefits of closing the Memphis, Tennessee post-of-duty station, and is publishing its cost-benefit analysis with this notice. In summary, HUD/OIG has determined that the closure will result in a cost savings, and, as a result of the size and limited function of the office, will cause no appreciable impact on the provision of authorized investigative services/activities in the area.

Cost-Benefit Analysis

A. Cost Savings: The Memphis, Tennessee post-of-duty station currently costs approximately $2,645.00 per month for space rental. Additional associated overhead expenses (e.g., telephone service) are incurred to operate the post-of-duty station. Thus, closing the office will result in annual savings of at least $32,000. In addition, by closing the office HUD/OIG will not be required to incur additional costs associated with current plans to install high-speed computer access lines to and on the premises.

B. Additional Costs: Relocation costs associated with the transfer of one special agent to Nashville from Memphis, Tennessee is estimated to total no more than $25,000. This cost will be offset by savings in the first year.

C. Impact on Local Economy: No appreciable impact on the local economy is anticipated. The post-of-duty station is co-located with office space leased by other Federal agencies, and it is anticipated that the space can easily be re-leased to other tenants.

D. Effect on Availability, Accessibility and Quality of Services Provided to Recipients of Those Services: The availability, accessibility and quality of services provided to complainants will not be adversely impacted. Special agents assigned to other HUD/OIG offices—chiefly Nashville—can cost-effectively address fraud allegations in Tennessee generally and Memphis specifically.

For the reasons stated in this notice, HUD/OIG intends to proceed to close its Memphis, Tennessee post-of-duty station at the expiration of the 90-day period from the date of publication of this notice.

Dated: January 6, 2005.
Kenneth M. Donohue, Sr.,
Inspector General.

[FR Doc. E5-169 Filed 1-18-05; 8:45 am]

BILLING CODE 4210-27-P